SMALL BUSINESS ADMINISTRATION

[Disaster Declaration #16567 and #16568; Minnesota Disaster Number MN-00081]

Administrative Declaration Amendment of a Disaster for the State of Minnesota

AGENCY: U.S. Small Business Administration.

ACTION: Amendment 1.

SUMMARY: This is an amendment of the Administrative declaration of a disaster for the State of Minnesota dated 08/03/2020.

Incident: Civil Unrest.

Incident Period: 05/27/2020 through 06/08/2020.

DATES: Issued on 10/13/2020.

Physical Loan Application Deadline Date: 11/02/2020.

Economic Injury (EIDL) Loan Application Deadline Date: 05/03/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the Administrator's disaster declaration for the State of Minnesota, dated 08/03/2020, is hereby amended to extend the deadline for filing applications for physical damages as a result of this disaster to 11/02/2020.

All other information in the original declaration remains unchanged.

(Catalog of Federal Domestic Assistance Number 59008)

Jovita Carranza,
Administrator.

[FR Doc. 2020-23126 Filed 10-19-20; 8:45 am]

BILLING CODE 8026-03-P